Proclamation 7339 of September 14, 2000

National Historically Black Colleges and Universities Week, 2000

By the President of the United States of America

A Proclamation

Rooted in the segregated South of more than a century ago, Historically Black Colleges and Universities (HBCUs) for decades were the sole source of higher education for African Americans. Generations of African American educators, physicians, lawyers, scientists, and other professionals found at HBCUs the knowledge, experience, and encouragement they needed to reach their full potential. Over the years, HBCUs have compiled an enviable record of achievement, educating almost forty percent of our Nation's black college graduates. Today, building on that tradition of excellence in education, HBCUs confer the majority of bachelor's degrees and advanced degrees awarded to black students in the physical sciences, mathematics, computer science, engineering, and education.

And HBCUs have accomplished this record in the face of daunting challenges—including limited financial resources and a relatively high percentage of disadvantaged students—without resorting to high tuition fees. The faculty and staff of HBCUs have created a nurturing environment for their students, set high academic standards and expectations, and served as inspiring role models for the young people around them. As a result, the dropout rate at HBCUs is much lower than for African American students at other educational institutions, and enrollment remains high.

In addition to educating many of our Nation's most distinguished African American professionals, HBCUs reach out to improve the quality of life in surrounding communities. Whether renovating housing, providing job training, instituting Head Start and senior citizen programs, mentoring elementary and high school students, or teaching nutrition, the students and faculty of HBCUs share their time, talents, and educational resources to make a positive difference in thousands of lives. Just as important, HBCUs serve as living repositories of African American history and heritage, preserving the words and artifacts of proud generations of African Americans and reminding us of the crucial part these men and women have played in the history of our Nation.

For well over a century, HBCUs have made their mark as vital institutions of higher learning. They have educated millions of young people, and today they maintain their lead role in preparing African Americans and students of all races for the challenges and opportunities of this new century.

NOW, THEREFORE, I, WILLIAM J. CLINTON, President of the United States of America, by virtue of the authority vested in me by the Constitution and laws of the United States, do hereby proclaim September 17 through September 23, 2000, as National Historically Black Colleges and Universities Week. I call upon the people of the United States, including government officials, educators, and administrators, to observe this week with appropriate programs, ceremonies, and activities honoring America's Historically Black Colleges and Universities and their graduates.

IN WITNESS WHEREOF, I have hereunto set my hand this fourteenth day of September, in the year of our Lord two thousand, and of the Independence of the United States of America the two hundred and twenty-fifth.

wj

[FR Doc. 00-24176

Filed 9-18-00; 8:45 am]

Billing code 3195-01-P